DEPARTMENT OF THE INTERIOR

Bureau of Ocean Energy Management

[Docket No. BOEM-2023-0047]

Notice of Availability of a Final Environmental Impact Statement for the Proposed Coastal Virginia Offshore Wind Commercial Project, Offshore Virginia

AGENCY: Bureau of Ocean Energy Management (BOEM), Interior.

ACTION: Notice of availability; final environmental impact statement.

SUMMARY: BOEM announces the availability of the final environmental impact statement (FEIS) for the construction and operations plan (COP) submitted by Virginia Electric and Power Company (dba Dominion Energy) for the proposed Coastal Virginia Offshore Wind Commercial Project (Project), offshore Virginia Beach, Virginia. The FEIS analyzes the potential environmental impacts of the Project as described in the COP (the proposed action) and the alternatives to the proposed action, including the no action alternative. The FEIS will inform BOEM's decision whether to approve, approve with modifications, or disapprove the COP.

ADDRESSES: The FEIS and detailed information about the Project, including the COP, can be found on BOEM's website at: https://www.boem.gov/renewable-energy/state-activities/CVOW-C.

FOR FURTHER INFORMATION CONTACT: Jessica Stromberg, BOEM Office of Renewable Energy Programs, 45600 Woodland Road, Sterling, Virginia 20166, (703) 787-1730 or jessica.stromberg@boem.gov.

SUPPLEMENTARY INFORMATION:

Proposed Action: Dominion Energy seeks approval to construct, operate, and maintain the Project: a wind energy facility and the associated export cables on the Outer Continental Shelf (OCS) offshore Virginia. The Project would be developed within the range of design parameters outlined in the COP, subject to applicable mitigation measures.

The Project as proposed in the COP would include up to 202 wind turbine generators (WTGs); up to three offshore, high voltage, alternating current substations; inter-array cables linking the individual turbines to the offshore substations; substation interconnector cables linking the substations to each other; offshore export cables; an onshore export cable system; an onshore switching station north of Harpers Road (Harpers Switching Station) or north of Princess Anne Road (Chicory Switching Station) in Virginia Beach, Virginia; and an overhead power line connection to the existing electrical grid at the Fentress Substation in Chesapeake, Virginia.

The WTGs, offshore substations, inter-array cables, and substation interconnector cables would be located on the OCS approximately 24 nautical miles (27 statute miles) east of Virginia Beach, Virginia, within the area defined by Renewable Energy Lease OCS-A-0483. The offshore export cables would be buried below the seabed surface in the OCS and Commonwealth of Virginia-owned submerged lands. The onshore export cables, substations, and grid connections would be located in Princess Anne County, Virginia.

Alternatives: BOEM considered a reasonable range of alternatives when preparing the draft environmental impact statement (DEIS) and carried forward the no action alternative and four action alternatives for further analysis in the DEIS and FEIS. Action alternatives A, B, C, and D (includes on-shore sub-alternatives D1 and D2) are analyzed in the FEIS. Three alternatives and four on-shore sub-alternatives were eliminated from detailed analysis because they did not meet the purpose and need for the proposed action or did not meet the screening criteria, which are presented in appendix C of the FEIS. The screening criteria included consistency with law and regulations, technical and economic feasibility, environmental impact, and geographic considerations.

Availability of the FEIS: The FEIS, COP, and associated information are available on BOEM's website at: https://www.boem.gov/renewable-energy/state-activities/CVOW-C.

BOEM has distributed digital copies of the FEIS to all parties listed in appendix K of the FEIS. If you would like a digital copy of the FEIS on a flash drive or a paper copy, BOEM will provide one upon request, as long as copies are available. You may request a flash drive or paper copy of the FEIS by contacting Lisa Landers at (703) 787-1520 or lisa.landers@boem.gov.

Cooperating Agencies: The following seven Federal agencies participated as cooperating agencies in the preparation of the FEIS: Bureau of Safety and Environmental Enforcement; U.S. Environmental Protection Agency; National Marine Fisheries Service; National Park Service; U.S. Army Corps of Engineers; U.S. Coast Guard; and U.S. Fish and Wildlife Service.

Participating Agencies: The following four agencies participated in the preparation of the FEIS as participating agencies: Department of Defense; Department of the Navy; the Advisory Council on Historic Preservation; and the Virginia Department of Environmental Protection.

Authority: 42 U.S.C. 4231 et seq. (NEPA, as amended) and 40 CFR 1506.6.

Karen Baker,
Chief, Office of Renewable Energy Programs, Bureau of Ocean Energy Management.

[FR Doc. 2023-21337 Filed 9-28-23; 8:45 am]

BILLING CODE 4340-98-P